DEPARTMENT OF JUSTICE

Notice of Lodging of Proposed Consent Decree Under The Resource Conservation and Recovery Act

On July 13, 2022, the Department of Justice filed a complaint and lodged a proposed consent decree with the United States District Court for the Middle District of Louisiana in the lawsuit entitled United States of America and Louisiana Department of Environmental Quality v. PCS Nitrogen Fertilizer, L.P., Civil Action No. 3:22-cv-00468-SDD-RLB. If approved by the court, the consent decree would resolve the claims of the United States and the parallel claims of the Louisiana Department of Environmental Quality (LDEQ) against PCS Nitrogen Fertilizer, L.P., (PCS Nitrogen) for injunctive relief and civil penalties for alleged violations of the Resource Conservation and Recovery Act (RCRA) at PCS Nitrogen's former phosphoric acid fertilizer facility located in Geismar, Louisiana (Facility). PCS Nitrogen made phosphate and nitrogen fertilizer products (including sulfuric acid) at the Facility beginning in the 1960s, through processes that generated large quantities of acidic wastewater and a solid material called phosphogypsum. The phosphogypsum was deposited and remains in large piles that are over 200 feet high and cover an area greater than 100 acres. The Facility ceased fertilizer production operations in December 2018 but continues to conduct remediation and closure activities at its phosphogypsum stack system and surface impoundments.

The consent decree would require PCS Nitrogen to (1) implement compliance projects at the Facility; (2) make RCRA hazardous waste determinations and properly manage all solid wastes generated, including any solid wastes generated during cleaning of equipment and phosphogypsum stack closure; (3) construct a wastewater treatment plant, repair leaks in certain impoundments, properly segregate stormwater and wastewater, and properly manage railcar and other cleaning wastes; (4) comply with specified requirements for the ongoing closure and long-term care of the Facility; and (5) provide over $84 million of financial assurance to cover the estimated cost of such obligations. In addition, the consent decree would require PCS Nitrogen to pay a civil penalty of $1,510,023. In return for PCS Nitrogen's compliance with these requirements, the consent decree would resolve past RCRA violations at the Facility that the United States' and LDEQ's complaint alleges.

The publication of this notice opens a period for public comment on the consent decree. Comments should be addressed to the Assistant Attorney General, Environment and Natural Resources Division, and should refer to United States of America and Louisiana Department of Environmental Quality v. PCS Nitrogen Fertilizer, L.P., D.J. Ref. No. 90-7-1-08388/22. All comments must be submitted no later than forty-five (45) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree, including a number of technical appendices, may be examined and downloaded at this Justice Department website: http://www.justice.gov/enrd/consent-decrees. We will provide a paper copy of the consent decree upon written request and payment of reproduction costs. Please mail your request and payment to: Consent Decree Library U.S. DOJ—ENRD P.O. Box 7611 Washington, DC 20044-7611.

Please enclose a check or money order for $147.75 (25 cents per page reproduction cost) payable to the United States Treasury. For a paper copy without the Appendices and signature pages, the cost is $16.00.

Thomas Carroll,
Assistant Section Chief, Environmental Enforcement Section, Environment and Natural Resources Division.

[FR Doc. 2022-15342 Filed 7-18-22; 8:45 am]

BILLING CODE 4410-15-P